DEPARTMENT OF TRANSPORTATION

Coast Guard

33 CFR Part 117

[CGD08-01-003]

RIN 2115-AE47

Drawbridge Operation Regulation; Terrebonne Bayou, LA

AGENCY: Coast Guard, DOT.

ACTION: Notice of proposed rulemaking.

SUMMARY: The Coast Guard is proposing to change the operating schedules for three bridges across Terrebonne Bayou at Houma, Terrebonne Parish, LA. The proposed rule would establish the same operating schedule for all three draws to facilitate the flow of vehicular traffic during rush hours while still meeting the reasonable needs of navigation. The new schedule will provide a safe, continuous vessel passage through all three draws. This action is expected to relieve the bridge owner from the requirement to separately man each bridge by using roving drawtenders to operate the bridges when necessary.

DATES: Comments and related material must reach the Coast Guard on or before May 18, 2001.

ADDRESSES: You may mail comments to Commander (ob), Eighth Coast Guard District, 501 Magazine Street, New Orleans, Louisiana 70130-3396, or deliver them to room 1313 at the same address above between 7 a.m. and 4 p.m., Monday through Friday, except Federal holidays. The Commander, Eighth Coast Guard District, Bridge Administration Branch maintains the public docket for this rulemaking. Comments and material received from the public, as well as documents indicated in this preamble as being available in the docket, will become part of this docket and will be available for inspection or copying at the Bridge Administration Branch, Eighth Coast Guard District between 7 a.m. and 3 p.m., Monday through Friday, except Federal holidays.

FOR FURTHER INFORMATION CONTACT: Mr. David Frank, Bridge Administration Branch, at the address given above, or telephone (504) 589-2965.

SUPPLEMENTARY INFORMATION:

Request for Comments

The Coast Guard encourages interested parties to participate in this rulemaking by submitting written data, views, or arguments. Persons submitting comments should include their names and addresses, identify this rulemaking (CGD08-01-003), and the specific section of this document to which each comment applies, and give the reason for each comment. Please submit all comments and attachments in an unbound format, no larger than 8½ by 11 inches, suitable for copying and electronic filing. If you would like confirmation of receipt of your comments, please enclose a stamped, self-addressed postcard or envelope. We will consider all comments and material received during the comment period. We may change this proposed rule in view of comments received.

Public Meeting

We do not now plan to hold a public meeting. You may submit a request for a public meeting by writing to the Commander, Eighth Coast Guard District, Bridge Administration Branch at the address under ADDRESSES explaining why a public meeting would be beneficial. If we determine that a public meeting would aid this rulemaking, we will hold one at a time and place to be announced by notice in the Federal Register.

Background and Purpose

The S3087 Bridge, mile 33.9, the newly constructed Howard Avenue Bridge, mile 35.0, and the Daigleville Bridge, mile 35.5 all lie within a 1.6 mile section on Terrebonne Bayou. These three bridges are currently on three different operating schedules, which requires the owner to crew them at various times. Due to the close proximity of the bridges to one another and the low volume of waterway traffic, the Department of Transportation and Development (DOTD) for the State of Louisiana has requested that the Coast Guard revise the regulations in 33 CFR 117.505 that governs the S3087 and Daigleville Bridges. DOTD would like to include the Howard Avenue Bridge, which currently opens on signal at any time for the passage of vessels, and place all three bridges under the same operating schedule.

With all three bridges on the same schedule, and because they are located so close together, DOTD can operate all three bridges with a roving crew or a single draw-tender.

Discussion of Proposed Rule

Currently, all three drawbridges, the S3087 Bridge (33 CFR 117.505(c)), the Howard Avenue Bridge, and the Daigleville Bridge (33 CFR 117.505(d)) across Terrebonne Bayou are required to open on signal during the day. However, both the S3087 Bridge and Daigleville Bridge have drawbridge operation regulations that require a four-hour advance notice be given. The S3087 Bridge will open on signal if at least four hours notice is given from 5 p.m. to 9 a.m. The Daigleville Bridge will open on signal if at least four hours notice is given from 10 p.m. to 6 a.m. The Daigleville Bridge is also allowed to remain closed-to-navigation Monday through Friday, except holidays, from 7 a.m. to 8:30 a.m. and 4:30 p.m. to 6 p.m.

The Coast Guard proposes to change the regulations in 33 CFR 117.505 to require the draws of the S3087, Howard Avenue, and Daigleville Bridges to open on signal if at least four hours notice is given, except that, the draw need not open for the passage of vessels Monday through Friday, except Federal holidays, from 6 a.m. to 8 a.m. and 4 p.m. to 6 p.m.

The Coast Guard has evaluated the bridge-opening log data from June 1998 to June 1999 for both the S3087 Bridge and the Daigleville Bridge. The Howard Road Bridge has only three months of data due to its recent construction.

Monthly Total of Bridge Openings
Bridge | S3087 | Daigleville | Howard Ave.
June 1998 | 23 | 83 | 0
July | 8 | 62 | 0
August | 18 | 70 | 0
September | 20 | 109 | 0
October | 29 | 83 | 0
November | 7 | 57 | 0
December | 4 | 42 | 0
January | 1 | 23 | 0
February | 6 | 30 | 0
March | 1 | 41 | 0
April | 14 | 60 | 4
May | 20 | 87 | 45
June 1999 | 11 | 74 | 35

Because of the low yearly number of requested bridge openings, the Coast Guard has determined that the request by the bridge owner, to have the bridges open on signal after a four-hour advance notice, is reasonable and meets the needs of navigation.

Traffic counts taken over a two-week period show that 26% of the daily vehicular traffic Monday through Friday, on each bridge, occurs during the two two-hour time periods requested for closure. The table below contains the Monday through Friday opening counts for all three bridges, over a one-year time period.

Bridge Openings
Bridge | S3087: 6am-8am | S3087: 4pm-6pm | Daigleville: 6am-8am | Daigleville: 4pm-6pm | Howard Ave. (3 month period): 6am-8am | Howard Ave. (3 month period): 4pm-6pm
6/98 to 6/99 | 0 | 9 | 17 | 30 | 2 | 2

The Coast Guard believes that allowing these bridges to remain closed to navigation during the time periods requested is reasonable and will still meet the needs of navigation. This conclusion is based upon the low number of opening requests received during these time periods.

This proposal will allow all three bridges to operate under the same schedule, thus providing a safe continuous passage for vessels while minimizing disruption to vehicular traffic. The new regulation will allow the bridge owner to operate all three bridges only when necessary.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

The Coast Guard expects the economic impact of this proposed rule to be so minimal that a full Regulatory Evaluation under paragraph 10(e) of the regulatory policies and procedures of DOT is unnecessary.

This proposed rule allows commercial fishing vessels ample opportunity to transit this waterway before and after the peak vehicular traffic period which occurs between 6 and 8 a.m. and 4 and 6 p.m. according to the vehicle traffic surveys.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. The proposed rule has considered the needs of the local commercial fishing vessels and it has been determined that, under 5 U.S.C. 605(b), it would not have a significant economic impact on a substantial number of small entities.

If you think that your business, organization, or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact the Bridge Administration Branch, Eighth Coast Guard District at the address above.

Collection of Information

This proposed rule would call for no new collection of information under the Paperwork Reduction Act of 1995 (44 U.S.C. 3501-3520.).

Federalism

We have analyzed this proposed rule under Executive Order 13132 and have determined that this proposed rule would not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not economically significant and does not cause an environmental risk to health or risk to safety that may disproportionately affect children.

Environment

The Coast Guard considered the environmental impact of this proposed rule and concluded that, under figure 2-1, paragraph 32(e), of Commandant Instruction M16475.lC, this proposed rule is categorically excluded from further environmental documentation. A “Categorical Exclusion Determination” is available in the docket where indicated under ADDRESSES.

List of Subjects in 33 CFR Part 117

Bridges.

For the reasons set out in the preamble, the Coast Guard proposes to amend Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. In § 117.505, paragraph (d) is removed; paragraph (e) is re-designated as paragraph (d); and paragraph (c) is revised to read as follows:

§ 117.505 Terrebonne Bayou.

* * * * *

(c) The draws of the S3087 Bridge, mile 33.9, the Howard Ave Bridge, mile 35.0, and the Daigleville Bridge, mile 35.5 at Houma, shall open on signal if at least four hours notice is given; except the draws need not open for the passage of vessels Monday through Friday, except Federal holidays, from 6 a.m. to 8 a.m. and from 4 p.m. to 6 p.m.

* * * * *

Dated: March 5, 2001.
K.J. Eldridge,
Captain, U.S. Coast Guard, Commander, Eighth Coast Guard District Acting.

[FR Doc. 01-6741 Filed 3-16-01; 8:45 am]

BILLING CODE 4910-15-P